DEPARTMENT OF AGRICULTURE

Forest Service

36 CFR Part 242

DEPARTMENT OF THE INTERIOR

Office of the Secretary

43 CFR Part 51

Fish and Wildlife Service

50 CFR Part 100

[Docket No. DOI-2024-0012; 245D0102DM DS61900000 DMSN00000.000000 DX61901]

RIN 1090-AB30

Federal Subsistence Management Program; Transfer of Regulations

AGENCY: Forest Service, Agriculture; Office of the Secretary, Office of the Assistant Secretary for Policy, Management, and Budget, and Fish and Wildlife Service, Interior.

ACTION: Final rule.

SUMMARY: This rule transfers the Federal Subsistence Management Program regulations for the Department of the Interior from 50 CFR part 100 to 43 CFR part 51 to align with the transfer of the Office of Subsistence Management from the U.S. Fish and Wildlife Service to the Office of the Assistant Secretary for Policy, Management, and Budget. This rule also revises the program's regulations for both the Department of the Interior and the Department of Agriculture to reflect the recent organizational changes and make administrative corrections.

DATES: Effective July 18, 2025.

Information Collection Requirements: If you wish to comment on the information collection requirements in this final rule, please submit your comments on or before September 16, 2025.

ADDRESSES: This final rule and supporting materials are available online at https://www.regulations.gov under Docket No. DOI-2024-0012.

Information Collection Requirements: Send your comments on the information collection request to the Service Information Collection Clearance Officer, U.S. Fish and Wildlife Service, by email to Info_Coll@fws.gov; or by mail to 5275 Leesburg Pike, MS: PRB (JAO/3W), Falls Church, VA 22041-3803. Please reference “OMB Control Number 1018-0075/1090-New OSM” in the subject line of your comments.

FOR FURTHER INFORMATION CONTACT: Crystal Leonetti, Acting Director, Office of Subsistence Management; (907) 786-3888 (phone) or subsistence@ios.doi.gov (email).

SUPPLEMENTARY INFORMATION:

Background

Under title VIII of the Alaska National Interest Lands Conservation Act (ANILCA) (16 U.S.C. 3111-3126), the Secretary of the Interior and the Secretary of Agriculture (Secretaries) jointly implement the Federal Subsistence Management Program (Program). The Program provides a preference for take of fish and wildlife resources for subsistence uses on Federal public lands and waters in Alaska. The term “subsistence uses” means the customary and traditional uses by rural Alaska residents of wild, renewable resources for direct personal or family consumption as food, shelter, fuel, clothing, tools, or transportation or for other specified purposes.

The Secretaries established a Federal Subsistence Board to administer the Program, and the Office of Subsistence Management (OSM) provides substantial administrative support to the Board. Because the Program is jointly administered, both the Department of the Interior (DOI, we) and the Department of Agriculture (USDA) promulgate regulations governing the Program. Involved DOI agencies include the U.S. Fish and Wildlife Service (FWS), which historically included OSM, and three other DOI land-managing bureaus, and the USDA involvement pertains to the U.S. Forest Service (USFS).

Effective July 15, 2024, Secretary of the Interior's Order (Secretary's Order) 3413 transferred OSM from FWS to the Office of the Assistant Secretary for Policy, Management, and Budget (see https://www.doi.gov/document-library/secretary-order/so-3413-transfer-office-subsistence-management-office-secretary). Secretary's Order 3413 noted that with the enactment of the Department of the Interior's 2024 appropriations, Congress approved the functional transfer of the Department's Office of Subsistence Management from the U.S. Fish and Wildlife Service to the Office of the Secretary.

What This Document Does

This rule transfers DOI's Federal Subsistence Management Program regulations in the Code of Federal Regulations (CFR) to align with the transfer of OSM from FWS to the Office of the Assistant Secretary for Policy, Management, and Budget. Because the Program is jointly administered by DOI and USDA, the Program regulations are located in two titles of the CFR. To date, the Program regulations have been found in title 36, “Parks, Forests, and Public Property,” which contains regulations administered by USDA-USFS, and title 50, “Wildlife and Fisheries,” which contains regulations administered by DOI-FWS. This document transfers the DOI regulations in the CFR from title 50 to title 43, “Public Lands: Interior,” at a new part 51.

This rule also revises the Program's regulations for both DOI and USDA to reflect the recent organizational changes. As OSM has been transferred from FWS, this rule replaces certain references to “the U.S. Fish and Wildlife Service” in the regulations with references to “the Office of Subsistence Management.” This document also corrects cross-references in the newly transferred regulations and makes non-substantive revisions to correct minor errors.

Conformance With Statutory and Regulatory Authorities

This final rule is administrative in nature and reflects organizational changes within the U.S. Department of the Interior. Accordingly, as this is a matter relating to agency management, pursuant to 5 U.S.C. 553(a)(2), notice of proposed rulemaking and opportunity for comment are not required, and this rule may be made effective less than 30 days after publication in the Federal Register. Therefore, we are making this final rule effective upon publication (see DATES, above).

Because this is a rule that is limited to agency organization, this rule is exempt from the provisions of Executive Order 12866 (see section 3(d)(3) of E.O. 12866). This action is not a rule as defined by the Regulatory Flexibility Act (see 5 U.S.C. 601(2)), as amended by the Small Business Regulatory Enforcement Fairness Act of 1996 (title II of Pub. L. 104-121, March 29, 1996), and thus is exempt from the provisions of those Acts. Nonetheless, OIRA determined this rule to be not significant on May 9, 2025. In addition, because this rule is a rule of agency organization, procedure, or practice that does not substantially affect the rights or obligations of non-agency parties, it is not included in the definition of “rule” under the Congressional Review Act (see 5 U.S.C. 804(3)).

Paperwork Reduction Act

This final rule includes a request to the Office of Management and Budget (OMB) to revise an existing information collection (IC) and approve a new IC control number as described below. All ICs require OMB approval under the Paperwork Reduction Act of 1995 (PRA; 44 U.S.C. 3501 et seq.). We may not conduct or sponsor, and you are not required to respond to, a collection of information unless it displays a currently valid OMB control number. OMB previously reviewed and approved the information collection requirements associated with subsistence management regulations on public lands in Alaska and assigned the OMB Control Number 1018-0075 (expires March 31, 2027).

We are preparing two separate information collection requests (ICRs) for OMB approval in conjunction with the regulatory changes effected by this rule. The first ICR will request OMB approval to move the currently approved information collections from 1018-0075 to a new control number (1090-New) under the Office of the Assistant Secretary for Policy, Management, and Budget (PMB). A second, simultaneous ICR (requesting a new, separate control number) will request OMB approval to convert certain forms described below (used with the Federal Subsistence Management Program) to become common forms for use by both DOI and USFS. Prior to submitting both ICRs to OMB, we will provide the public with the required 30-day comment period. This 30-day comment period will be announced through the publication of a notice of information collection in the Federal Register.

Upon receiving OMB approval of the two ICRs, we will discontinue OMB Control Number 1018-0075, and the USFS will report its burden from the newly designated common forms directly to OMB under the second control number. Additionally, the USFS will prepare an ICR to request OMB approval of a new separate control number (0596-New) for the ICs contained in its regulations at 36 CFR part 242.

In conjunction with this rulemaking, we propose three major revisions to the current ICs for OMB approval:

(1) REVISION TO SPLIT USFS BURDEN FROM DOI—The currently approved burden under 1018-0075 includes burden for the USFS, which is not allowed under the PRA. The USFS should report its burden separately under its own control number. As part of this submission, we would convert all forms to be common forms managed by DOI under a new, stand-alone control number (see change 3, below). The USFS will submit a request to OMB for approval of a new collection (0596-New) for its burdens from all ICs (not associated with the new common forms) contained in its regulations at 36 CFR part 242. The USFS will also report its burden for its use of the Federal Subsistence Management Program forms as “Requests for Common Forms” for OMB approval.

(2) REASSIGNMENT OF EXISTING INFORMATION COLLECTIONS FROM CONTROL NO. 1018-0075 to 1090-NEW:

(a) Appointment of Members to Regional Advisory Councils—Based upon recommendations of the Federal Subsistence Board, the Secretary of the Interior with the concurrence of the Secretary of Agriculture appoints members to the 10 regional advisory councils. ANILCA requires members to be residents of the region in which they serve. The Board established five additional criteria for membership on the Councils. Members must have:

• Knowledge of the region's fish and wildlife resources;

• Knowledge of the region's subsistence uses, customs, and traditions;

• Knowledge of the region's commercial, sport, and other uses;

• Leadership skills; and

• Communication skills.

The member selection process begins with the information that we collect on the application. Ten interagency review panels interview all applicants and nominees, their references, and regional key contacts. The information provided by the applicant on the application form is the basis for these contacts. The information that we collect through the application form and subsequent interviews is the basis of the Federal Subsistence Board's recommendations to the Secretaries of the Interior and Agriculture for appointment and reappointment of council members.

The following forms are associated with recruitment and selection of members for regional advisory councils:

(i) Form DI-9008, “Federal Subsistence Regional Advisory Council Membership Incumbent Application” (Formerly Form 3-2300)—Incumbent applicants use this form for membership.

• Question 1 asks if the applicant has any changes or updates to their original application.

• Question 2 concerns the applicant's continued desire to serve on the Council and their goals.

• Question 3 is necessary to determine which user group the applicant wishes to represent.

• We request that applicants provide at least three references.

(ii) Form DI-9009, “Federal Subsistence Regional Advisory Council Membership Application/Nomination” (Formerly FWS Form 3-2321)—Applicants and others nominating individuals complete this form for membership.

• Questions 1 through 4 pertain to the applicant's regional knowledge of resources and uses of those resources.

• Question 5 concerns the applicant's leadership experience.

• Question 6 pertains to communication skills.

• Question 7 helps determine the applicant's knowledge of public lands.

• Questions 8 and 9 help gauge the applicant's willingness and availability to attend meetings.

• Question 10 is necessary to determine which user group the applicant wishes to represent.

• We request that applicants provide at least three references.

(iii) Form DI-9010, “Regional Advisory Council Candidate Interview” (Formerly FWS Form 3-2322)—Review panel members complete this form when interviewing applicants.

• Question 1 asks if the applicant is willing to serve as a volunteer with no compensation, except for travel and per diem expenses.

• Questions 2, 10, and 11 help to gauge the applicant's commitment level.

• Questions 3-9 relate to questions on the application form and provide an opportunity for discussion and gathering of more detailed information that many respondents are not able to give in writing.

(iv) Form DI-9011, “Regional Advisory Council Reference/Key Contact Interview” (Formerly FWS Form 3-2323)—Review panel members completed this form when interviewing references and key contacts.

• Questions 1-3 provide other perspectives of the applicant's experience and abilities.

• Questions 4 and 5 provide the agency with a better understanding of the applicant's ability to work with others and their standing in the community and region.

(b) Nonform Information Collections—We also collect nonform information. Regulations at 43 CFR part 51 (formerly 50 CFR part 100) contain procedures for the nonform IC requirements, including required documentation:

(i) Petition To Repeal Subsistence Rules and Regulations—If the State of Alaska enacts and implements laws that are consistent with sections 803, 804, and 805 of ANILCA, the State may submit a petition to the Secretary of the Interior for repeal of Federal subsistence rules. The State's petition shall:

• Be submitted to the Secretary of the Interior and the Secretary of Agriculture;

• Include the entire text of applicable State legislation indicating compliance with sections 803, 804, and 805 of ANILCA; and

• Set forth all data and arguments available to the State in support of legislative compliance with sections 803, 804, and 805 of ANILCA.

If the Secretaries find that the State's petition contains adequate justification, a rulemaking proceeding for repeal of the regulations in this part will be initiated. If the Secretaries find that the State's petition does not contain adequate justification, the petition will be denied by letter or other notice, with a statement of the ground for denial.

(ii) Propose Changes to Federal Subsistence Regulations—The Board will accept proposed changes to the Federal subsistence regulations in 43 CFR part 51 according to a published schedule, except for proposals for emergency and temporary special actions, which the Board will accept according to procedures set forth in the regulations. Members of the public may propose changes to the subsistence regulations by providing:

• Contact information (name, organization, address, phone number, fax number, email address);

• Type of change (harvest season, harvest limit, method and means of harvest, customary and traditional use determination);

• Regulation to be changed;

• Language for proposed regulation;

• Why change should be made;

• Impact on populations;

• How change will affect subsistence uses;

• How change will affect other uses;

• Communities that have used the resource;

• Where resource has been harvested; and

• Months in which resource has been harvested.

(iii) Proposals for Emergency or Temporary Special Actions—A special action is an out-of-cycle change in a season, harvest limit, or method of harvest. The Federal Subsistence Board may take a special action to restrict, close, open, or reopen the taking of fish and wildlife on Federal public lands: (1) to ensure the continued viability of a particular fish or wildlife population; (2) to ensure continued subsistence use; and (3) for reasons of public safety or administration. Members of the public may request a special action by providing:

• Contact information (name, organization, address, telephone number, fax number, email address);

• Description of requested action;

• Any unusual or significant changes in resource abundance or unusual conditions affecting harvest opportunities that could not reasonably have been anticipated and that potentially could have significant adverse effects on the health of fish and wildlife populations or subsistence users;

• The necessity of requested action if required for reasons of public safety or administration; and

• Extenuating circumstances that necessitate a regulatory change before the next regulatory review.

(iv) Requests for Reconsideration (Appeals)—Any person adversely affected by a new regulation may request that the Federal Subsistence Board reconsider its decision by filing a written request within 60 days after a regulation takes effect or is published in the Federal Register, whichever comes first.

Requests for reconsideration must provide the Board with sufficient narrative evidence and argument to show why the action by the Board should be reconsidered. The Board will accept a request for reconsideration only if it is based upon information not previously considered by the Board, demonstrates that the existing information used by the Board is incorrect, or demonstrates that the Board's interpretation of information, applicable law, or regulation is in error or contrary to existing law. Requests for reconsideration must include:

• Contact information (name, organization, address, telephone number, fax number, email address).

• Regulation and the date of Federal Register publication.

• Statement of how the person is adversely affected by the action.

• Statement of the issues raised by the action, with specific reference to: (1) information not previously considered by the Board; (2) information used by the Board that is incorrect; and (3) how the Board's interpretation of information, applicable law, or regulation is in error or contrary to existing law.

(c) Other Permits and Reports.

(i) Traditional/Cultural/Educational Permits—Organizations desiring to harvest fish or wildlife for traditional, cultural, or educational reasons must provide a letter stating that the requesting program has instructors, enrolled students, minimum attendance requirements, and standards for successful completion. The harvest must be reported, and any animals harvested will count against any established Federal harvest quota for the area in which it is harvested.

(ii) Fishwheel, Fyke Net, and Under-Ice Permits—Persons who want to set up and operate fishwheels and fyke nets or use a net under the ice may be required to consult with the in-season manager. Such persons also may be required to either provide or label the equipment with certain information such as name and contact information and other household members who will use the equipment, permittee's name and address, species of fish take, number of fish taken, dates of use, registration permit number, organization's name and address (if applicable), and primary contact person name and telephone number.

(iii) Reports and Recommendations—Subsistence Regional Advisory Councils are required to send an annual report to the Federal Subsistence Board describing regional concerns or problems pertaining to subsistence on Federal public lands. In turn, the Board is required to respond to each of the Councils' annual reports and address their concerns and possible courses of actions or solutions.

(iv) Customary Trade Sales—The Board manages each region differently regarding customary trade, primarily based on cultural beliefs and traditional practices. As needed, decisions also include conservation concerns. This requirement is in place to monitor customary trade and ensure that subsistence resources are for subsistence users and not commercial trade.

(v) Transfer of Subsistence-Caught Fish, Wildlife, or Shellfish—This reporting requirement safeguards the harvester and individual who receives the harvested animal. It protects both parties to show that an illegal commercial enterprise is not ongoing or that the animal was not poached.

(vi) Meeting Request—The Board meets at least twice per year and at such other times as deemed necessary. Meetings occur at the call of the chair, but any member may request a meeting. There is no specified format to request a meeting. Usually, we recommend to the Board that it have a meeting on a special topic. This is not a common occurrence.

(vii) Cooperative Agreements—The Board may enter into cooperative agreements or otherwise cooperate with Federal agencies, the State, Native organizations, local governmental entities, and other persons and organizations, including international entities to effectuate the purposes and policies of the Federal Subsistence Management Program or to coordinate respective management responsibilities. Currently, cooperative agreements are not generally used, and we are reporting a placeholder burden of 1 due to the regulatory requirement.

(viii) Alternative Permitting Processes—Developing alternative permitting processes relating to the subsistence taking of fish and wildlife ensures continued opportunities for subsistence. Currently, this requirement is not generally used, and we are reporting a placeholder burden of 1 due to the regulatory requirement.

(ix) Requests for Individual Customary and Traditional Use Determinations—The Federal Subsistence Board has determined that rural Alaska residents of the listed communities and areas and certain individuals have customary and traditional use of the specified species on Federal public land in the specified areas. Persons granted individual customary and traditional use determinations will be notified in writing by the Board. The Service and the local National Park Service superintendent will maintain the list of individuals having customary and traditional use on National Parks and Monuments. A copy of the list is available upon request. Currently, this requirement is not generally used, and we are reporting a placeholder burden of 1 due to the regulatory requirement.

(x) Management Plans—Management plans are not routinely used. When created by the State or Alaska Native communities for overall management of a specific area, the plans are submitted to the appropriate Federal agencies for review/comment. Currently, this requirement is not generally used, and we are reporting a placeholder burden of 1 due to the regulatory requirement.

(xi) Labeling/Marking Requirements (see specific sections identified below)

(A) Bear Baiting—The requirement to mark bear baiting stations and provide contact information is for public safety since attempting to draw bears into a certain area could cause a significant hazard for the public not involved in hunting activities. Requirements to register a bait station with the State is to provide a single location that the public can go to inform themselves of possible hazards prior to using public lands.

(B) Evidence of Sex and Identity—In certain areas and with certain species of both wildlife and fish, evidence of sex and identity is required for biological purposes and the data is used for future management decisions. This information is critical to assist in assessing the health of a population, the male/female ratios, ages of harvested animals, identifying different genetic populations, and other important factors needed for sound management decisions.

(C) Marking of Fish Gear—The marking of various fishing gear types (fishwheels, crab pots, certain types of nets or their supporting buoys, stakes, etc.) with contact information is based on the fact that these gear types are generally unattended while catching fish. This information is used to differentiate between users harvesting under Federal or State regulations and also to protect the owners of the gear should it be damaged or carried away. The contact information can be used to return the often-expensive gear to the proper owner. Requirements as to the location of the contact information on the gear types is to ease the task of field managers so they can, if needed, identify gear from a boat and not have to land to search for the contact information. In marine waters, the information is used by the U.S. Coast Guard for safety in navigation concerns. The above reasons also hold true regarding registering a fishwheel with the State or the Federal program.

(D) Marking of Subsistence-Caught Fish—Requirements in certain areas to mark subsistence-caught fish by removal of the tips of the tail or dorsal fin is used to identify fish harvested under Federal regulations and not under State sport or commercial regulations. This requirement is needed as Federal subsistence harvest limits are often larger than sport fishing bag limits and protects the user from possible citations from State law enforcement.

(E) Sealing Requirements—Sealing requirements for animals, primarily bears and wolves, differ in parts of the State. This requirement not only allows biologists to gather important data to evaluate the health of the various populations but is also integral in preventing the illegal harvest and trafficking of animals and their parts.

(xii) 3rd Party Notifications (Tags, Marks, or Collar Notification and Return)—Users must present the tags, markings, or collars to the Alaska Department of Fish and Game or the agency conducting the research. Much of this equipment may be used again, and the information regarding the take of the animal is important to management decisions.

(3) CONVERSION OF CERTAIN FORMS TO BE COMMON FORMS (1090-NEW): Hunting and Fishing Applications, Permits, and Reports—Persons engaged in taking wildlife, fish, and shellfish on public lands in Alaska for subsistence uses must apply for and obtain a permit and comply with the reporting provisions of that permit. All subsistence program land-managing agencies in Alaska use the five forms identified below to collect information from qualified rural residents for subsistence harvest to verify the applicant as a federally qualified user and to track take of wildlife and fish.

Staff anthropologists use the information to inform customary and traditional use determinations by describing the past human uses of resources, who has used them, and where they have been used. Staff biologists use the information to evaluate harvest success; effectiveness of season lengths, harvest quotas, and restrictions; hunting/fishing patterns and practices; and overall use.

The Federal Subsistence Board uses the harvest data, along with other information, to set future season dates and bag limits for Federal subsistence resource users. These seasons and bag limits are set to meet needs of subsistence hunters without adverse impact to the health of existing animal populations.

(i) Form DI-9012, “Federal Subsistence Customary Trade Recordkeeping Form” (Formerly FWS Form 3-2379)—Federally qualified subsistence users who want to take part in customary trade must complete this form. Staff anthropologists use the information to inform customary and traditional use determinations and to write an analysis based on the provisions in section 804 of ANILCA. These analyses further reduce the pool of eligible subsistence users and may allocate harvests by community, in part, based on documented uses of the resource.

• Applicants provide information on the permit to identify:

1. That they are a federally qualified subsistence user;

2. Their community of primary residence for community harvest allocations;

3. Season and permit number; and

4. Other household members who may conduct customary trade with the permit.

• Remaining information tracks date of sales, buyers, and buyers' addresses, total dollar amount, species taken, fish parts.

(ii) Form DI-9013, “Designated Fishing Application, Permit, and Report” (Formerly FWS Form 3-2378)—Federally qualified subsistence users who want to harvest fish for other federally qualified subsistence users must complete this form. Federally qualified subsistence users may designate another federally qualified subsistence user to take fish on their behalf. The designated subsistence user must obtain a designated harvest permit prior to attempting to harvest fish and must return a completed harvest report. The designated subsistence user may fish for any number of beneficiaries but may have no more than two harvest limits in their possession at any one time. Subsistence users may not designate more than one person to take or attempt to take fish on their behalf at one time. Subsistence users may not personally take or attempt to take fish at the same time that their designated subsistence user is taking or attempting to take fish on their behalf.

• Applicants provide information on the permit to identify:

1. That they are a federally qualified subsistence user;

2. Their community of primary residence for community harvest allocations; and

3. The season and permit number.

• Applicants identify both whom they fished for and their subsistence permit number. The permit number verifies they are federally qualified users and tracks usage by communities.

• The remaining information requested in the form tracks species taken, number retained, and gear for biological and anthropological analysis.

(iii) Form DI-9014, “Designated Hunter Application, Permit, and Report” (Formerly FWS Form 3-2327)—Federally qualified subsistence users who want to harvest wildlife for other federally qualified subsistence users must complete this form.

• Applicants provide information on the permit to identify:

1. That they are a federally qualified subsistence user;

2. Their community of primary residence for community harvest allocations; and

3. The unit, season, hunt number, and permit number.

• Applicants provide a list of names of other persons they hunted for, their harvest ticket/registration permit, and their community to ensure they are federally qualified subsistence users.

• The remaining information provides harvest data such as unit, drainage, or specific location and number, by sex, of animals taken.

(iv) Form DI-9015, “Federal Subsistence Fishing Application, Permit, and Report” (FWS Form 3-2328)—Federally qualified subsistence users who want to harvest fish complete this form.

• Applicants provide information on the permit to identify:

1. That they are a federally qualified subsistence user;

2. Their community of primary residence for community harvest allocations;

3. The season and permit number; and

4. Other household members who may fish with the permit.

• The remaining information identifies dates, locations, types of gear, fish species, and number of fish harvested for biological and anthropological analysis.

• Depending on in-season management requirements, a condition may be included for certain fisheries that requires a time-specific reporting requirement. This management tool is used only when conservation concerns exist that may require the emergency closure of the fishery to prevent overharvest.

• The form must be completed and returned by the date designated on the permit.

(v) Form DI-9016, “Federal Subsistence Hunt Application, Permit, and Report” (Formerly FWS Form 3-2326)—Federally qualified subsistence users who want to harvest wildlife complete this form.

• Applicants provide information on the permit to identify:

1. That they are a federally qualified subsistence user;

2. Their community of primary residence for community harvest allocations; and

3. The unit, season, hunt number, and permit number.

• Question 1 identifies whether the applicant hunted or used a designated hunter.

• Questions 2a through 2e identify success rates by time, location, and take of animal.

• Question 3 identifies date of take and biological data of animal.

Copies of the draft forms or any other documentation described above are available to the public by submitting an email request to the Service Information Collection Clearance Officer as provided above in ADDRESSES.

Title of Collection: Federal Subsistence Regulations and Associated Forms, 43 CFR part 51.

OMB Control Number: 1090-New (formerly 1018-0075).

Form Numbers: DI Forms 9008-9012.

Type of Review: Revision of a currently approved collection.

Respondents/Affected Public: Individuals and State, local, and Tribal governments. Most respondents are individuals who are federally defined rural residents in Alaska.

Total Estimated Number of Annual Respondents: 385.

Total Estimated Number of Annual Responses: 385.

Estimated Completion Time per Response: Varies from 5 minutes to 40 hours, depending on activity.

Total Estimated Number of Annual Burden Hours: 281.

Respondent's Obligation: Required to obtain or retain a benefit.

Frequency of Collection: On occasion for applications; annually or on occasion for reports, recordkeeping, and labeling/marking requirements.

Total Estimated Annual Nonhour Burden Cost: There is no non-hour cost burden associated with this information collection. Postage is prepaid as a Federal Government expense.

Send your comments and suggestions on this information collection by the date indicated above in DATES via one of the methods set forth in ADDRESSES. Please reference “OMB Control Number 1018-0075/1090-New” in the subject line of your comments.

Title of Collection: Common Forms Used with Federal Subsistence Regulations, 43 CFR part 51.

OMB Control Number: 1090-New.

Form Numbers: DI Forms 9012-9016.

Type of Review: New.

Respondents/Affected Public: Individuals and State, local, and Tribal governments. Most respondents are individuals who are federally defined rural residents in Alaska.

Total Estimated Number of Annual Respondents: 4,918.

Total Estimated Number of Annual Responses: 4,918.

Estimated Completion Time per Response: Varies from 5 minutes to 15 minutes, depending on activity.

Total Estimated Number of Annual Burden Hours: 1,231.

Respondent's Obligation: Required to obtain or retain a benefit.

Frequency of Collection: On occasion for applications; annually or on occasion for reports and recordkeeping requirements.

Total Estimated Annual Nonhour Burden Cost: There is no non-hour cost burden associated with this information collection. Postage is prepaid as a Federal Government expense.

In accordance with the PRA and its implementing regulations at 5 CFR 1320.8(d)(1), we provide the general public and other Federal agencies with an opportunity to comment on our proposal to revise OMB Control Number 1018-0075, to transfer the currently approved information collections to a new 1090 control number, and to request a new control number for the new common forms. This input will help us assess the impact of our information collection requirements and minimize the public's reporting burden. It will also help the public understand our information collection requirements and provide the requested data in the desired format.

As part of our continuing effort to reduce paperwork and respondent burdens, and in accordance with 5 CFR 1320.8(d)(1), we invite the public and other Federal agencies to comment on any aspect of this proposed information collection, including:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) Ways to minimize the burden of the collection of information on those who are to respond, including through the use of appropriate automated, electronic, mechanical, or other technological collection techniques or other forms of information technology, e.g., permitting electronic submission of response.

Comments that you submit in response to this rulemaking are a matter of public record. Before including your address, phone number, email address, or other personal identifying information in your comment, you should be aware that your entire comment—including your personal identifying information—may be made publicly available at any time. While you can ask us in your comment to withhold your personal identifying information from public review, we cannot guarantee that we will be able to do so.

Send your comments and suggestions on this information collection by the date indicated above in DATES via one of the methods set forth in ADDRESSES. Please reference “OMB Control Number 1090-New OSM” in the subject line of your comments.

List of Subjects

36 CFR Part 242

Administrative practice and procedure, Alaska, Fish and shellfish, National forests, Public lands, Reporting and recordkeeping requirements, Wildlife.

43 CFR Part 51

Administrative practice and procedure, Alaska, Fish and shellfish, National forests, Public lands, Reporting and recordkeeping requirements, Wildlife.

50 CFR Part 100

Administrative practice and procedure, Alaska, Fish and shellfish, National forests, Public lands, Reporting and recordkeeping requirements, Wildlife.

Regulation Promulgation

For the reasons stated in the preamble, and as directed by Secretary's Order 3413, dated June 27, 2024, the Department of Agriculture amends 36 CFR part 242, and the Department of the Interior amends 43 CFR subtitle A and 50 CFR chapter I, subchapter H, as set forth below:

Title 36—Parks, Forestry, and Public Property

PART 242—SUBSISTENCE MANAGEMENT REGULATIONS FOR PUBLIC LANDS IN ALASKA

1. The authority citation for part 242 continues to read as follows:

Authority: 16 U.S.C. 3, 472, 551, 668dd, 3101-3126; 18 U.S.C. 3551-3586; 43 U.S.C. 1733.

Subpart A—General Provisions

§ 242.8 [Amended]

2. In § 242.8, remove the text “50 CFR Part 100 or 36 CFR Part 242” and add in its place the text “43 CFR part 51 or this part”.

3. Revise § 242.9 to read as follows:

§ 242.9 Information collection requirements.

The Office of Management and Budget (OMB) has approved the information collection requirements contained in this part and assigned OMB Control Number 0596-New. Federal agencies may not conduct or sponsor, and a person is not required to respond to, a collection of information unless it displays a currently valid OMB control number. Direct comments regarding the burden estimate or any other aspect of the information collection to the Information Collection Clearance Officer, Office of the Chief Information Officer, U.S. Department of Agriculture, 1400 Independence Ave. SW, Washington, DC 20250.

Subpart B—Program Structure

4. In § 242.10, revise and republish paragraphs (d)(7) and (9) to read as follows:

§ 242.10 Federal Subsistence Board.

* * * * *

(d) * * *

(7) The Board shall establish a Staff Committee for analytical and administrative assistance composed of members from the Office of Subsistence Management, U.S. Fish and Wildlife Service, National Park Service, U.S. Bureau of Land Management, Bureau of Indian Affairs, and USDA Forest Service. A representative from the Office of Subsistence Management shall serve as Chair of the Interagency Staff Committee.

* * * * *

(9) The Office of Subsistence Management and the Interagency Staff Committee shall provide appropriate administrative support for the Board.

* * * * *

§ 242.19 [Amended]

5. In § 242.19, amend paragraph (d) by removing “website (http://alaska.fws.gov/asm/index.cfml)” and adding in its place “website (https://www.doi.gov/subsistence)”.

Subpart C—Board Determinations

6. In § 242.22, revise and republish paragraph (b) to read as follows:

§ 242.22 Subsistence resource regions.

* * * * *

(b) You may obtain maps delineating the boundaries of subsistence resource regions from the Office of Subsistence Management or online at https://www.doi.gov/subsistence.

7. In § 242.23:

a. In paragraph (a), remove “§ 100.15” and add in its place “§ 242.15”; and

b. Revise and republish paragraph (b).

The revision reads as follows:

§ 242.23 Rural determinations.

* * * * *

(b) You may obtain maps delineating the boundaries of nonrural areas from the Office of Subsistence Management or online at https://www.doi.gov/subsistence.

Subpart D—Subsistence Taking of Fish and Wildlife

§ 242.25 [Amended]

8. In § 242.25, amend the definition of “Registration permit” by removing the text “50 CFR 100.17 and 36 CFR 242.17” and adding in its place the text “43 CFR 51.17 and § 242.17”.

§ 242.26 [Amended]

9. In § 242.26, amend paragraphs (n)(11)(i)(C)(2), (n)(12)(i)(D)(2), and (n)(13)(iii)(C)(2) by removing “50 CFR 100.25(e)” and adding in its place “§ 242.25(e)”.

§ 242.28 [Amended]

10. In § 242.28, amend paragraph (b)(6) by removing “§ 100.27(b)(2)” and adding in its place “§ 242.27(b)(2)”.

Title 50—Wildlife and Fisheries

Chapter I—United States Fish and Wildlife Service, Department of the Interior

PART 100—[TRANSFERRED AND REDESIGNATED]

11. Under the authority of title VIII of the Alaska National Interest Lands Conservation Act, 16 U.S.C. 3111-3126; regulations at 36 CFR part 242 and 50 CFR part 100 and sections 2 and 5 of Reorganization Plan No. 3 of 1950 (64 Stat. 1262), as amended, transfer part 100 to 43 CFR subtitle A and redesignate it as part 51.

Subchapter H [Removed and Reserved]

12. Under the authority of title VIII of the Alaska National Interest Lands Conservation Act, 16 U.S.C. 3111-3126; regulations at 36 CFR part 242 and 50 CFR part 100 and sections 2 and 5 of Reorganization Plan No. 3 of 1950 (64 Stat. 1262), as amended, subchapter H is removed and reserved.

Title 43—Public Lands: Interior

Subtitle A—Office of the Secretary of the Interior

PART 51—SUBSISTENCE MANAGEMENT REGULATIONS FOR PUBLIC LANDS IN ALASKA

13. The authority citation for newly transferred and redesignated part 51 continues to read as follows:

Authority: 16 U.S.C. 3, 472, 551, 668dd, 3101-3126; 18 U.S.C. 3551-3586; 43 U.S.C. 1733.

Subpart A—General Provisions

§ 51.4 [Amended]

14. In newly transferred and redesignated § 51.4:

a. In the definition of “Board”, remove “§ 100.10” and add in its place “§ 51.10”;

b. In the definition of “Federal Advisory Committees”, remove “§ 100.12” and add in its place “§ 51.12”;

c. In the definition of “Regional Councils or Regional Council”, remove “§ 100.11” and add in its place “§ 51.11”; and

d. In the definition of “Rural”, remove “§ 100.15” and add in its place “§ 51.15”.

§ 51.5 [Amended]

15. In newly transferred and redesignated § 51.5:

a. In paragraph (a), remove “§ 100.23” and add in its place “§ 51.23”; and

b. In paragraph (b), remove “§ 100.24” and add in its place “§ 51.24”.

§ 51.7 [Amended]

16. In newly transferred and redesignated § 51.7, amend paragraph (c) by removing “§§ 100.25, 100.26, 100.27, or 100.28” and adding in its place “§ 51.25, § 51.26, § 51.27, or § 51.28”.

§ 51.8 [Amended]

17. In newly transferred and redesignated § 51.8, remove the text “50 CFR Part 100 or 36 CFR Part 242” and add in its place the text “this part or 36 CFR part 242”.

18. Newly transferred and redesignated § 51.9 is revised and republished to read as follows:

§ 51.9 Information collection requirements.

The Office of Management and Budget (OMB) has approved the information collection requirements contained in this part and assigned OMB Control Number 1090-New. Federal agencies may not conduct or sponsor, and a person is not required to respond to, a collection of information unless it displays a currently valid OMB control number. Direct comments regarding the burden estimate or any other aspect of the information collection to the Departmental Information Collection Clearance Officer, Office of the Chief Information Officer, 1849 C Street NW, Washington, DC 20240.

Subpart B—Program Structure

19. In newly transferred and redesignated § 51.10, revise and republish paragraphs (d)(7) and (9) to read as follows:

§ 51.10 Federal Subsistence Board.

* * * * *

(d) * * *

(7) The Board shall establish a Staff Committee for analytical and administrative assistance composed of members from the Office of Subsistence Management, U.S. Fish and Wildlife Service, National Park Service, U.S. Bureau of Land Management, Bureau of Indian Affairs, and USDA Forest Service. A representative from the Office of Subsistence Management shall serve as Chair of the Interagency Staff Committee.

* * * * *

(9) The Office of Subsistence Management and the Interagency Staff Committee shall provide appropriate administrative support for the Board.

* * * * *

§ 51.11 [Amended]

20. In newly transferred and redesignated § 51.11, amend paragraph (c)(1)(x) by removing “§ 100.17” and adding in its place “§ 51.17”.

§ 51.12 [Amended]

21. In newly transferred and redesignated § 51.12, amend paragraph (a) by removing “§ 100.11” and adding in its place “§ 51.11”.

§ 51.15 [Amended]

22. In newly transferred and redesignated § 51.15, amend paragraph (a) by removing “§ 100.23” and adding in its place “§ 51.23”.

§ 51.16 [Amended]

23. In newly transferred and redesignated § 51.16, amend paragraph (d) by removing “§ 100.24” and adding in its place “§ 51.24”.

§ 51.18 [Amended]

24. In newly transferred and redesignated § 51.18:

a. In the introductory text of paragraph (a), remove “§ 100.19” and add in its place “§ 51.19”; and

b. In paragraph (a)(1), remove “§ 100.11” and add in its place “§ 51.11”.

§ 51.19 [Amended]

25. In newly transferred and redesignated § 51.19:

a. In paragraphs (a)(1) and (b)(1)(ii), remove “§ 100.18(a)(4)” and add in its place “§ 51.18(a)(4)”; and

b. In paragraph (d), remove the internet address “Web site (http://alaska.fws.gov/asm/index.cfml)” and add in its place “website (https://www.doi.gov/subsistence)”.

Subpart C—Board Determinations

26. In newly transferred and redesignated § 51.22, revise and republish paragraph (b) to read as follows:

§ 51.22 Subsistence resource regions.

* * * * *

(b) You may obtain maps delineating the boundaries of subsistence resource regions from the Office of Subsistence Management or online at https://www.doi.gov/subsistence.

27. In newly transferred and redesignated § 51.23:

a. In paragraph (a), remove “§ 100.15” and add in its place “§ 51.15”; and

b. Revise and republish paragraph (b).

The revision reads as follows:

§ 51.23 Rural determinations.

* * * * *

(b) You may obtain maps delineating the boundaries of nonrural areas from the Office of Subsistence Management or online at https://www.doi.gov/subsistence.

Subpart D—Subsistence Taking of Fish and Wildlife

§ 51.25 [Amended]

28. In newly transferred and redesignated § 51.25:

a. In paragraph (a), in the definition of “Registration permit”, remove “50 CFR 100.17” and add in its place “§ 51.17”;

b. In paragraph (b), remove the text “§§ 100.26 through 100.28” in both places it occurs and add in each place “§§ 51.26 through 51.28”;

c. In paragraph (c)(1), remove “§§ 100.26, 100.27, or 100.28” and add in its place “§ 51.26, § 51.27, or § 51.28”;

d. In paragraphs (c)(2) and (4), remove “§ 100.10(d)(5)(ii)” and add in its place “§ 51.10(d)(5)(ii)”;

e. In paragraph (e), remove “§ 100.26” in both places it occurs and add in each place “§ 51.26”;

f. In paragraph (f), remove “§ 100.10(d)(5)(ii)” and add in its place “§ 51.10(d)(5)(ii)”; and

g. In paragraph (j)(1) introductory text, remove “§ 100.26, § 100.27, or § 100.28” and add in its place “§ 51.26, § 51.27, or § 51.28”.

§ 51.26 [Amended]

29. In newly transferred and redesignated § 51.26, amend paragraphs (n)(11)(i)(C)(2), (n)(12)(i)(D)(2), and (n)(13)(iii)(C)(2) by removing “50 CFR 100.25(e)” and adding in its place “§ 51.25(e)”.

§ 51.27 [Amended]

30. In newly transferred and redesignated § 51.27, amend paragraph (e)(13)(xx) by removing “§ 100.3(b)(5)” and adding in its place “§ 51.3(b)(5)”.

§ 51.28 [Amended]

31. In newly transferred and redesignated § 51.28:

a. In paragraph (b)(6), remove “§ 100.27(b)(2)” and add in its place “§ 51.27(b)(2)”; and

b. In paragraph (i)(1), remove “§ __.3(b)(5) of these regulations” and add in its place “§ 51.3(b)(5)”.

Tyler Hassen,
Acting Assistant Secretary—Policy, Management and Budget, U.S. Department of the Interior.
Kristin Sleeper,
Deputy Under Secretary—Natural Resources and Environment, U.S. Department of Agriculture.

[FR Doc. 2025-13497 Filed 7-17-25; 8:45 am]

BILLING CODE 4334-13-P; 3411-15-P